DEPARTMENT OF ENERGY

Federal Energy Regulatory Commission

Combined Notice of Filings #1

Take notice that the Commission received the following electric corporate filings:

Docket Numbers: EC25-104-000.

Applicants: Alpha Generation, LLC, Arthur Kill Power LLC, Clean Energy Future—Lordstown, LLC, Connecticut Jet Power LLC, Devon Power LLC, GB II Connecticut LLC, GB II New Haven LLC, GB II New York LLC, Generation Bridge Connecticut Holdings, LLC, Generation Bridge M&M Holdings, LLC, Kleen Energy Systems, LLC, Long Beach Generation LLC, Middletown Power LLC, Montville Power LLC, Oswego Harbor Power LLC, Parkway Generation Essex, LLC, Parkway Generation Keys Energy Center LLC, Parkway Generation Operating LLC, Parkway Generation Sewaren Urban Renewal Entity LLC, Black Volt B 2024 LLC.

Description: Joint Application for Authorization Under Section 203 of the Federal Power Act of Alpha Generation, LLC, et al.

Filed Date: 6/16/25.

Accession Number: 20250616-5234.

Comment Date: 5 p.m. ET 7/7/25.

Take notice that the Commission received the following exempt wholesale generator filings:

Docket Numbers: EG25-357-000.

Applicants: SunZia Wind North LLC.

Description: SunZia Wind North LLC submits Notice of Self-Certification of Exempt Wholesale Generator Status.

Filed Date: 6/17/25.

Accession Number: 20250617-5219.

Comment Date: 5 p.m. ET 7/8/25.

Docket Numbers: EG25-358-000.

Applicants: SunZia Wind South LLC.

Description: SunZia Wind South LLC submits Notice of Self-Certification of Exempt Wholesale Generator Status.

Filed Date: 6/17/25.

Accession Number: 20250617-5226.

Comment Date: 5 p.m. ET 7/8/25.

Take notice that the Commission received the following electric rate filings:

Docket Numbers: ER25-2526-000.

Applicants: Entergy Arkansas, LLC.

Description: § 205(d) Rate Filing: Flat Fork Solar, LLC LBA Agreement to be effective 6/17/2025.

Filed Date: 6/16/25.

Accession Number: 20250616-5200.

Comment Date: 5 p.m. ET 7/7/25.

Docket Numbers: ER25-2527-000.

Applicants: Entergy Mississippi, LLC.

Description: § 205(d) Rate Filing: Wildwood Solar, LLC, LBA Agreement to be effective 9/1/2024.

Filed Date: 6/16/25.

Accession Number: 20250616-5207.

Comment Date: 5 p.m. ET 7/7/25.

Docket Numbers: ER25-2528-000.

Applicants: NorthWestern Energy Public Service Corporation.

Description: § 205(d) Rate Filing: RS 45—Cert of Concurrence—Trans to Trans Agot to be effective 8/6/2025.

Filed Date: 6/16/25.

Accession Number: 20250616-5216.

Comment Date: 5 p.m. ET 7/7/25.

Docket Numbers: ER25-2529-000.

Applicants: American Transmission Systems, Incorporated.

Description: § 205(d) Rate Filing: ATSI submits two ECSAs—SA Nos. 7366 and 7368 to be effective 8/18/2025.

Filed Date: 6/17/25.

Accession Number: 20250617-5070.

Comment Date: 5 p.m. ET 7/8/25.

Docket Numbers: ER25-2532-000.

Applicants: SunZia Wind South LLC.

Description: Initial Rate Filing: SunZia Wind South LLC—Joint MBR Application SunZia Wind South & North LLC to be effective 8/17/2025.

Filed Date: 6/17/25.

Accession Number: 20250617-5190.

Comment Date: 5 p.m. ET 7/8/25.

Docket Numbers: ER25-2533-000.

Applicants: SunZia Wind North LLC.

Description: Initial Rate Filing: SunZia Wind North LLC—Joint MBR Application SunZia Wind South & North LLC to be effective 8/17/2025.

Filed Date: 6/17/25.

Accession Number: 20250617-5193.

Comment Date: 5 p.m. ET 7/8/25.

Take notice that the Commission received the following electric reliability filings:

Docket Numbers: RR24-4-002.

Applicants: North American Electric Reliability Corporation.

Description: Compliance Filing of the North American Electric Reliability Corporation in Response to the Order on Five-Year Performance Assessment.

Filed Date: 6/16/25.

Accession Number: 20250616-5241.

Comment Date: 5 p.m. ET 7/17/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: June 17, 2025.
Carlos D. Clay,
Deputy Secretary.

[FR Doc. 2025-11443 Filed 6-20-25; 8:45 am]

BILLING CODE 6717-01-P